DEPARTMENT OF COMMERCE

National Oceanic and Atmospheric Administration

Agency Information Collection Activities; Submission to the Office of Management and Budget (OMB) for Review and Approval; Comment Request; Economic Valuation of Natural and Nature-Based Infrastructure

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 22, 2022 (87 FR 57868) during a 60-day comment period. This notice allows for an additional 30 days for public comments.

Agency: National Oceanic & Atmospheric Administration (NOAA), Commerce.

Title: Economic Valuation of Natural and Nature-Based Infrastructure.

OMB Control Number: 0648-0788.

Form Number(s): None.

Type of Request: Revision and extension.

Number of Respondents: Focus groups: 48; Questionnaire: 6,500.

Average Hours per Response: Focus groups: 1 hour; Questionnaire: 20 minutes.

Total Annual Burden Hours: 2,215.

Needs and Uses: Pursuant to H.R. 3684 (Infrastructure Investment and Jobs Act) and the Coastal Zone Management Act (CZMA), this request is for a revision and extension of an information collection. This information collection will focus on a different geographical location (Gulf of Mexico (GoM)). Therefore, this is a request for focus groups to help guide any revisions necessary to the survey instrument. Upon completion of these focus groups, a revision will be submitted for the revised survey instrument. Also, NOAA is revising the title of this collection from Economic Analysis of Shoreline Treatment Options for Coastal New Hampshire to Economic Valuation of Natural and Nature-Based Infrastructure to better describe this collection.”

The National Ocean Service (NOS) proposes to collect data on the opinions, values, and attitudes of GoM residents relative to natural and nature-based infrastructure for the purpose of shoreline stabilization or habitat restoration. Respondents (age 18 years and older) will be randomly sampled from households in GoM coastal counties. This information will be used by NOAA, state and local decision-makers, and others to assess the value, benefits, and perceived efficacy of federal investments in habitat restoration and/or climate adaptation projects that use natural or nature-based infrastructure. NOAA has a vested interest in the potential use of natural and nature-based infrastructure, from many perspectives, including as it relates to the resilience, well-being, and sustainability of coastal communities.

Affected Public: Individuals or households.

Frequency: This is a one-time information collection for this region, although the collection may be deployed to other regions in the future.

Respondent's Obligation: Voluntary.

Legal Authority: H.R. 3684 (Infrastructure Investment and Jobs Act) and the Coastal Zone Management Act (CZMA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0788.

Sheleen Dumas,
Department PRA Clearance Officer, Office of the Chief Information Officer, Department of Commerce.

[FR Doc. 2022-27361 Filed 12-15-22; 8:45 am]

BILLING CODE 3510-JS-P